DEPARTMENT OF TRANSPORTATION

Federal Aviation Administration

14 CFR Part 39

[Docket No. FAA-2005-20969; Directorate Identifier 2005-NM-017-AD; Amendment 39-14443; AD 2006-01-04]

RIN 2120-AA64

Airworthiness Directives; Raytheon Model DH.125, HS.125, and BH.125 Series Airplanes; Model BAe.125 Series 800A (C-29A and U-125), 800B, 1000A, and 1000B Airplanes; and Model Hawker 800 (including variant U-125A), and 1000 Airplanes

AGENCY: Federal Aviation Administration (FAA), Department of Transportation (DOT).

ACTION: Final rule.

SUMMARY: The FAA is superseding an existing airworthiness directive (AD), which applies to certain Raytheon airplanes identified above. That AD currently requires a visual inspection to determine whether adequate clearance exists between the fan venturi motor casing and the adjacent equipment, and adjustments, if necessary; and a visual inspection to detect signs of overheating, degradation of insulating materials, and ingestion of debris into the motor, and replacement of discrepant parts with serviceable parts. This new AD instead requires that operators replace the fan venturi with a new or modified part. This AD results from reports that the fan venturi overheated and produced smoke while the airplane was on the ground. We are issuing this AD to prevent heat and fire damage to equipment adjacent to the fan venturi, which could result in smoke in the cabin and/or burning equipment.

DATES: This AD becomes effective February 22, 2006.

The Director of the Federal Register approved the incorporation by reference of a certain publication listed in the AD as of February 22, 2006.

ADDRESSES: You may examine the AD docket on the Internet at http://dms.dot.gov or in person at the Docket Management Facility, U.S. Department of Transportation, 400 Seventh Street SW., Nassif Building, room PL-401, Washington, DC.

Contact Raytheon Aircraft Company, Department 62, P.O. Box 85, Wichita, Kansas 67201-0085, for service information identified in this AD.

FOR FURTHER INFORMATION CONTACT: Philip Petty, Aerospace Engineer, Electrical Systems and Avionics Branch, ACE-119W, FAA, Wichita Aircraft Certification Office, 1801 Airport Road, room 100, Mid-Continent Airport, Wichita, Kansas 67209; telephone (316) 946-4139; fax (316) 946-4107.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 94-11-03, amendment 39-8919 (59 FR 27231, May 26, 1994). The existing AD applies to certain Raytheon Corporate Jets Model DH/BH/HS BAe 125 and Hawker 800 and 1000 series airplanes. That NPRM was published in the Federal Register on April 18, 2005 (70 FR 20080). That NPRM proposed to require replacing the fan venturi with a new or modified part.

Comments

We provided the public the opportunity to participate in the development of this AD. We have considered the comments from one commenter that have been received on the NPRM.

Request for Parts AD

The commenter requests that a determination be made as to whether the defective parts are installed on other aircraft, particularly those manufactured by Israel Aircraft Industries. If so, then consideration should be given to making the NPRM applicable to the Honeywell part, rather than the airframe on which it is installed or, alternatively, to the Honeywell part and the identified airframes.

The FAA considered the commenter's request. In this particular case, the unsafe condition is caused by the combination of a part that can overheat and the particular installation allowing it to be close to surrounding material that could burn. We have contacted the Civil Aviation Administration of Israel (CAAI) to determine if the unsafe condition identified in this AD may also occur on airplanes manufactured by Israel Aircraft Industries. If the CAAI determines that the unsafe condition could exist on additional airplanes, we will consider further rulemaking. No change to the final rule is necessary in this regard.

Request To Reference Parts Manufacturer Approval (PMA) Parts

The same commenter also requests that the language in the NPRM be changed to permit installation of PMA equivalent parts. The commenter states that the mandated installation of a certain part number “is at variance with FAR 21.303,” which permits the installation of other (PMA) parts.

We infer that the commenter would like the AD to permit installation of any equivalent PMA parts so that it is not necessary for an operator to request approval of an alternative method of compliance (AMOC) in order to install an “equivalent” PMA part. Whether an alternative part is “equivalent” in adequately resolving the unsafe condition can only be determined on a case-by-case basis based on a complete understanding of the unsafe condition. We are not currently aware of any such parts. Our policy is that, in order for operators to replace a part with one that is not specified in the AD, they must request an AMOC. This is necessary so that we can make a specific determination that an alternative part is or is not susceptible to the same unsafe condition.

In response to the commenter's statement regarding a “variance with FAR 21.303,” under which the FAA issues parts manufacturer approvals (PMA), this statement appears to reflect a misunderstanding of the relationship between ADs and the certification procedural regulations of part 21 of the FARs (14 CFR part 21). Those regulations, including section 21.303 of the FARs (14 CFR 21.303), are intended to ensure that aeronautical products and parts are safe. But ADs are issued when, notwithstanding those procedures, we become aware of unsafe conditions in these products or parts. Therefore, an AD takes precedence over other “approvals” when we identify an unsafe condition, and mandating installation of a certain part number in an AD is not at variance with section § 21.303.

The AD provides a means of compliance for operators to ensure that the identified unsafe condition is addressed appropriately. For an unsafe condition attributable to a part, the AD normally identifies the replacement parts necessary to obtain that compliance. As stated in section 39.7 of the FARs (14 CFR 39.7), “Anyone who operates a product that does not meet the requirements of an applicable airworthiness directive is in violation of this section.” Unless an operator obtains approval for an AMOC, replacing a part with one not specified by the AD would make the operator subject to an enforcement action and result in a civil penalty. No change to the AD is necessary in this regard.

Request To Address Defective PMA Parts

The same commenter also requests that the NPRM be revised to cover possible defective PMA alternative parts, rather than just a single part number, so that those defective PMA parts also are subject to the proposed AD. The commenter notes that because there is at least one known PMA part for a modified fan venturi, there also may be other PMA parts for the older, unmodified venturi. The commenter states that in the case of this NPRM, the PMA holder is also the supplier to the airplane manufacturer, so the parts are numbered identically. However, the commenter adds that this is not usually the case, and states that PMA manufacturers are encouraged—and in some cases, required—to identify PMA parts by alternative designations.

We concur with the commenter's general request that, if we know that an unsafe condition also exists in PMA parts, the AD should address those parts, as well as the original parts. As the commenter states, in this case, the identified PMA part has the same part number as the original, and is therefore subject to the requirements of this AD. We are not aware of other PMA parts that have a different part number. The commenter's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. Therefore, no change has been made to the final rule in this regard.

Request To Consider Broader Aspects of an Identified Problem

The commenter also notes that the use of alternative PMA parts is becoming increasingly common, and admonishes the FAA to take note of this fact. The commenter suggests that the FAA view the service bulletin as a starting point for further research into the problem. The commenter concludes that simply adopting the manufacturers' service bulletins could result in severe safety compromises unless due consideration is given to the broader aspects of an identified problem.

Although the commenter's remarks above do not specifically request a change to this AD, we would like to clarify that we do use service bulletins as starting points for our research into the development of an AD, when they are available, because of the original equipment manufacturer (OEM's) expertise and broad knowledge of the product. Often, service information may not even be available that addresses a particular identified unsafe condition. In all cases, we may also consult with other aeronautical experts, specialists, and vendors, and we may research databases, reports, testing results, etc., to ensure that the unsafe condition is addressed in an appropriate and timely manner. No change has been made to this AD as a result of the commenter's remarks in the previous paragraph.

Clarification of AMOC Paragraph

We have revised this action to clarify the appropriate procedure for notifying the principal inspector before using any approved AMOC on any airplane to which the AMOC applies.

Conclusion

We have carefully reviewed the available data, including the comments received, and determined that air safety and the public interest require adopting the AD with the change described previously. We have determined that this change will neither increase the economic burden on any operator nor increase the scope of the AD.

Costs of Compliance

There are about 500 airplanes of the affected design worldwide. This AD will affect about 350 airplanes of U.S. registry. The following table provides the estimated costs for U.S. operators to comply with this AD.

Estimated Costs
Action | Work hours | Average labor rate per hour | Parts | Cost per airplane
Option 1: Replacement | 4 | $65 | $12,487 | $12,747
Option 2: Modification | 8 | 65 | 2,269 | 2,789

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-8919 (59 FR 27231, May 26, 1994) and by adding the following new airworthiness directive (AD):

2006-01-04 Raytheon Aircraft Company: Amendment 39-14443. Docket No. FAA-2005-20969; Directorate Identifier 2005-NM-017-AD.

Effective Date

(a) This AD becomes effective February 22, 2006.

Affected ADs

(b) This AD supersedes AD 94-11-03.

Applicability

(c) This AD applies to Raytheon Model DH.125, HS.125, and BH.125 series airplanes; Model BAe.125 Series 800A (C-29A and U-125), 800B, 1000A, and 1000B airplanes; and Model Hawker 800 (including variant U-125A), and 1000 airplanes, certificated in any category; as identified in Raytheon Service Bulletin SB 21-3669, dated December 2004.

Unsafe Condition

(d) This AD results from reports indicating that the fan venturi overheated and produced smoke while the airplane was on the ground. We are issuing this AD to prevent heat and fire damage to equipment adjacent to the fan venturi, which could result in smoke in the cabin and/or burning equipment.

Compliance

(e) You are responsible for having the actions required by this AD performed within the compliance times specified, unless the actions have already been done.

Modification or Replacement

(f) Within 1,200 flight hours or 24 months after the effective date of this AD, whichever occurs first, do the action in either paragraph (f)(1) or (f)(2) of this AD in accordance with the Accomplishment Instructions of Raytheon Service Bulletin SB 21-3669, dated December 2004.

(1) Modify the existing fan venturi part number (P/N) 132322-2-1 by installing an improved motor, P/N 207640-34.

(2) Replace the existing fan venturi P/N 132322-2-1 with a new fan venturi P/N 132322-3-1.

Note 1: Raytheon Service Bulletin SB 21-3669 refers to Honeywell Service Bulletin 132322-21-4041, Revision 2, dated August 20, 2004, as an additional source of service information for doing the modification. The Raytheon service bulletin includes the Honeywell service bulletin.

Parts Installation

(g) As of the effective date of this AD, no person may install a fan venturi, P/N 132322-2-1, on any airplane unless the fan venturi has been modified in accordance with paragraph (f)(1) of this AD; or unless the fan venturi has a new P/N in accordance with paragraph (f)(2) of this AD.

Alternative Method of Compliance (AMOC)

(h)(1) The Manager, Wichita Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(i) You must use Raytheon Service Bulletin SB 21-3669, dated December 2004, including Honeywell Service Bulletin 132322-21-4041, Revision 2, dated August 20, 2004, to perform the actions that are required by this AD, unless the AD specifies otherwise. The Director of the Federal Register approved the incorporation by reference of this document in accordance with 5 U.S.C. 552(a) and 1 CFR part 51. Contact Raytheon Aircraft Company, Department 62, P.O. Box 85, Wichita, Kansas 67201-0085, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 23, 2005.
Ali Bahrami,
Manager, Transport Airplane Directorate, Aircraft Certification Service.

[FR Doc. 06-403 Filed 1-17-06; 8:45 am]

BILLING CODE 4910-13-P